DEPARTMENT OF COMMERCE

INTERNATIONAL TRADE ADMINISTRATION

[A-428-602]

Brass Sheet and Strip from Germany: Amended Notice of Rescission of Antidumping Duty Administrative Review

AGENCY: Import Administration, International Trade Administration, Department of Commerce.

EFFECTIVE DATE: September 10, 2008.

FOR FURTHER INFORMATION CONTACT: Joy Zhang or James Terpstra, AD/CVD Operations, Office 3, Import Administration, International Trade Administration, U.S. Department of Commerce, 14th Street and Constitution Avenue, NW, Washington, DC 20230; telephone: (202) 482-1168 and (202) 482-3965, respectively.

SUPPLEMENTARY INFORMATION: On August 20, 2008, the Department of Commerce published Brass Sheet and Strip from Germany: Notice of Rescission of Antidumping Duty Administrative Review, 71 FR 49170 (August 20, 2008), in the Federal Register. We are amending this notice to correct a typographical error in identifying the period of review. The correct period of review is March 1, 2007 through February 29, 2008.

This notice is issued and published in accordance with section 777(i) of the Tariff Act of 1930, as amended, and 19 CFR 351.213(d)(4).

Dated: September 4, 2008.
Stephen J. Claeys,
Deputy Assistant Secretary for Import Administration.

[FR Doc. E8-21027 Filed 9-9-08; 8:45 am]

BILLING CODE 3510-DS-S